DEPARTMENT OF ENERGY

Federal Energy Regulatory Commission

Combined Notice of Filings #2

Take notice that the Commission received the following electric corporate filings:

Docket Numbers: EC16-6-000.

Applicants: Noble Altona Windpark, LLC, Noble Bliss Windpark, LLC, Noble Clinton Windpark I, LLC, Noble Ellenburg Windpark, LLC, Noble Chateaugay Windpark, LLC, Noble Great Plains Windpark, LLC, Noble Wethersfield Windpark, LLC.

Description: Application for Authorization Under Section 203 of the Federal Power Act and Request for Waivers, Confidential Treatment, and Expedited Consideration of Noble Altona Windpark, LLC, et al.

Filed Date: 10/8/15.

Accession Number: 20151008-5174.

Comments Due: 5 p.m. ET 10/29/15.

Docket Numbers: EC16-7-000.

Applicants: Astoria Generating Company, L.P., Crete Energy Venture, LLC, Lincoln Generating Facility, LLC, New Covert Generating Company, LLC, Rolling Hills Generating, L.L.C.

Description: Application for Authorization for Disposition of Jurisdictional Facilities and Request for Expedited Action of Astoria Generating Company, L.P., et al.

Filed Date: 10/8/15.

Accession Number: 20151008-5195.

Comments Due: 5 p.m. ET 10/29/15.

Take notice that the Commission received the following electric rate filings:

Docket Numbers: ER14-2952-005.

Applicants: Midcontinent Independent System Operator, Inc.

Description: Compliance filing: 2015-10-08_SSR Cost Allocation Compliance Filing to be effective 4/3/2014.

Filed Date: 10/8/15.

Accession Number: 20151008-5149.

Comments Due: 5 p.m. ET 10/29/15.

Docket Numbers: ER15-2579-001.

Applicants: Midcontinent Independent System Operator, Inc.

Description: Tariff Amendment: 2015-10-08_SA 2632 Amendment to Facilities Charge Template to be effective 9/1/2015.

Filed Date: 10/8/15.

Accession Number: 20151008-5190.

Comments Due: 5 p.m. ET 10/29/15.

Docket Numbers: ER15-746-002.

Applicants: RC Cape May Holdings, LLC.

Description: Report Filing: Reactive Refund Report to be effective 10/8/2015.

Filed Date: 10/8/15.

Accession Number: 20151008-5159.

Comments Due: 5 p.m. ET 10/29/15.

Docket Numbers: ER16-36-000.

Applicants: Public Service Company of Colorado.

Description: Section 205(d) Rate Filing: 2015-10-8_PSC-WAPA-Con Fac Agrmt-359-0.0.0-Filing to be effective 2/24/2014.

Filed Date: 10/8/15.

Accession Number: 20151008-5116.

Comments Due: 5 p.m. ET 10/29/15.

Docket Numbers: ER16-37-000.

Applicants: Southwest Power Pool, Inc.

Description: Section 205(d) Rate Filing: Attachment AE Revisions Regarding MWP Formulas for Reg-Up and Reg-Down Mileage to be effective 10/9/2015.

Filed Date: 10/8/15.

Accession Number: 20151008-5173.

Comments Due: 5 p.m. ET 10/29/15.

Docket Numbers: ER16-38-000.

Applicants: Kingbird Solar A, LLC.

Description: Baseline eTariff Filing: Shared Facilities and Common Ownership Agreements and Request for Waivers to be effective 10/9/2015.

Filed Date: 10/8/15.

Accession Number: 20151008-5206.

Comments Due: 5 p.m. ET 10/29/15.

Docket Numbers: ER16-39-000.

Applicants: Kingbird Solar B, LLC.

Description: Baseline eTariff Filing: Shared Facilities and Common Ownership Agreements and Request for Waivers to be effective 10/9/2015.

Filed Date: 10/8/15.

Accession Number: 20151008-5207.

Comments Due: 5 p.m. ET 10/29/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 8, 2015.
Nathaniel J. Davis, Sr.,
Deputy Secretary.

[FR Doc. 2015-26703 Filed 10-20-15; 8:45 am]

BILLING CODE 6717-01-P